DEPARTMENT OF TRANSPORTATION

Federal Aviation Administration

Thirteenth Meeting: RTCA Special Committee 223, Airport Surface Wireless Communications

AGENCY: Federal Aviation Administration (FAA), U.S. Department of Transportation (DOT).

ACTION: Meeting Notice of RTCA Special Committee 223, Airport Surface Wireless Communications.

SUMMARY: The FAA is issuing this notice to advise the public of the thirteenth meeting of the RTCA Special Committee 223, Airport Surface Wireless Communications.

DATES: The meeting will be held October 2-3, 2012, from 9 a.m.-5 p.m.

ADDRESSES: The meeting will be held at the secured facilities at RTCA, Inc., 1150 18th Street NW., Suite 910, Washington, DC, 20036.

FOR FURTHER INFORMATION CONTACT: The RTCA Secretariat, 1150 18th Street, NW., Suite 910, Washington, DC, 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 223. The agenda will include the following:

October 2, 2012

• Welcome/Introductions/Administrative Remarks

• Agenda Overview

• Review/Approve Prior Plenary Meeting Summary

• RTCA Paper No. 170-12/SC223-027 and Action Item Status

• General Presentations of Interest

Tuesday Afternoon—General Presentations Continued

MOPS Working Group Breakout Session

Wednesday, October 3, 2012

Wednesday Morning—MOPS Working Group Breakout Session\

Wednesday Afternoon—Reconvene Plenary

• Establish Agenda, Date, and Place for RTCA Plenary Meeting #14

• Review of Meeting Summary Report

• Adjourn by 1500

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 4, 2012.
Kathy Hitt,
Management Analyst, Business Operations Group, Federal Aviation Administration.

[FR Doc. 2012-22252 Filed 9-10-12; 8:45 am]

BILLING CODE 4910-13-P